DEPARTMENT OF LABOR

Employee Benefits Security Administration

Agency Information Collection Activities; Announcement of OMB Approval

AGENCY: Employee Benefits Security Administration, DOL.

ACTION: Notice.

SUMMARY: The Employee Benefits Security Administration (EBSA) is announcing that a collection of information regarding the Annual Report for Multiple Employer Welfare Arrangements and Certain Entities Claiming Exception (Form M-1) has been approved by the Office of Management and Budget (OMB) under the Paperwork Reduction Act of 1995. This document announces the OMB approval number and expiration date.

FOR FURTHER INFORMATION CONTACT: For inquiries regarding the Form M-1 filing requirement, contact Amy J. Turner or Katina Lee, Office of Health Plan Standards and Compliance Assistance, at (202) 693-8335. For inquiries regarding electronic filing capability, contact the EBSA computer help desk at (202) 693-8600. Questions on completing the form are being directed to the EBSA Form M-1 help desk at (202) 693-8360.

SUPPLEMENTARY INFORMATION: In the Federal Register of September 4, 2003, EBSA announced its intent to request renewal of its current OMB approval for the Annual Report for Multiple Employer Welfare Arrangements and Certain Entities Claiming Exception (Form M-1). In accordance with the Paperwork Reduction Act of 1995 (44 U.S.C. 3501-3520), OMB has renewed its approval for the information collection under OMB control number 1210-0116. The approval expires on January 31, 2007. Under 5 CFR 1320.5(b), an Agency may not conduct or sponsor, and a person is not required to respond to, a collection of information unless the collection displays a valid control number.

Dated: March 16, 2004.
Gerald B. Lindrew,
Deputy Director, Office of Policy and Research, Employee Benefits Security Administration.

[FR Doc. 04-6448 Filed 3-22-04; 8:45 am]

BILLING CODE 4510-29-P